DEPARTMENT OF TRANSPORTATION

Federal Aviation Administration

Public Notice for Waiver of Aeronautical Land-Use Assurance

AGENCY: Federal Aviation Administration (FAA), DOT

ACTION: Notice of intent of waiver with respect to land; Indianapolis International Airport, Indianapolis, Indiana.

SUMMARY: The FAA is considering a proposal to change 76.592 acres of airport land from the federal obligation dedicating it to aeronautical use and to authorize this land to be used for revenue producing, non-aeronautical purposes at Indianapolis International Airport, Indianapolis, Indiana. The aforementioned land is not needed for current or future aeronautical use.

The land is located along the southern boundary of the airport, bordered by Col. H. Weir Cook Memorial Drive; West Perimeter Road; Haueisen Road; and Bridgeport Road. The land is not developed. A solar power generating facility is proposed for development on the land.

DATES: Comments must be received on or before October 16, 2014.

ADDRESSES: Documents are available for review by appointment at the FAA Chicago Airports District Office, Melanie Myers, Program Manager, 2300 East Devon Avenue, Des Plaines, IL 60018 Telephone: (847) 294-7525/Fax: (847) 294-7046 and Eric Anderson, Indianapolis Airport Authority, 7800 Col. H. Weir Cook Memorial Drive, Indianapolis, IN 46241; (317) 487-5135.

Written comments on the Sponsor's request must be delivered or mailed to: Melanie Myers, Program Manager, Federal Aviation Administration, Chicago Airports District Office, 2300 East Devon Avenue, Des Plaines, IL 60018, Telephone Number: (847) 294-7525/FAX Number: (847) 294-7046.

FOR FURTHER INFORMATION CONTACT: Melanie Myers, Program Manager, Federal Aviation Administration, Chicago Airports District Office, 2300 East Devon Avenue, Des Plaines, IL 60018, Telephone Number: (847) 294-7525/FAX Number: (847) 294-7046.

SUPPLEMENTARY INFORMATION: In accordance with section 47107(h) of Title 49, United States Code, this notice is required to be published in the Federal Register 30 days before modifying the land-use assurance that requires the property to be used for an aeronautical purpose.

The vacant property consists of portions of 15 original airport acquired parcels. These parcels were acquired with a combination of Airport Development Aid Program (ADAP) grants 6-18-0038-04, 6-18-0038-10, 6-18-0038-14, and local funds. The land is located outside the airport operations area and is restricted from airside development. Development of the parcel for landside operations is restricted due to maximum height limitations and access limitations. There are no impacts to the airport by allowing the Indianapolis Airport Authority to lease the property for solar energy generation.

The Indianapolis Airport Authority will control use of the parcel through terms and conditions of the ground lease. The lease will be subordinate to the sponsor's existing grant assurances. This will ensure that all activities on the parcel will be compatible with FAA requirements and airport operations. The disposition of proceeds from the lease of the airport property will be in accordance with FAA's Policy and Procedures Concerning the Use of Airport Revenue, published in the Federal Register on February 16, 1999 (64 FR 7696).

A fair market value (FMV) appraisal for the parcel was completed in June 2014 in accordance with FAA Order 5100.37A. The appraisal concluded that the FMV for an annual commercial ground lease of the property is $871.20 per acre.

This notice announces that the FAA is considering the release of the subject airport property at the Indianapolis International Airport, Indianapolis, Indiana from its obligations to be maintained for aeronautical purposes. Approval does not constitute a commitment by the FAA to financially assist in the change in use of the subject airport property nor a determination of eligibility for grant-in-aid funding from the FAA.

Legal Description

Parcel 1: A part of the Northwest Quarter of Section 33, Township 15 North, Range 2 East, Decatur Township, Marion County, Indiana, more particularly described as follows: Commencing at a brass disk (IAA monument 33-O) found at the Southwest corner of the Northwest Quarter of said Section 33; thence North 88 degrees 54 minutes 54 seconds East (all bearings are based on the Indiana State Plane Coordinate system, East Zone (NAD83)) along the South line of said Northwest Quarter 282.06 feet; thence North 00 degrees 04 minutes 49 seconds West 20.26 feet to the POINT OF BEGINNING; thence continuing North 00 degrees 04 minutes 49 seconds West 553.40 feet; thence North 35 degrees 25 minutes 03 seconds East 1307.04 feet; thence South 48 degrees 16 minutes 26 seconds East 137.99 feet; thence South 50 degrees 35 minutes 06 seconds East 202.13 feet; thence South 52 degrees 26 minutes 47 seconds East 41.33 feet to the East line of the Southwest Quarter of said Northwest Quarter; thence South 00 degrees 04 minutes 18 seconds East along said East line 715.77 feet to a non-tangent curve to the left having a radius of 600.00 feet, the radius point of which bears South 73 degrees 20 minutes 34 seconds East; thence Southerly along said curve 135.64 feet to a point which bears North 86 degrees 17 minutes 44 seconds West from said radius point; thence South 03 degrees 42 minutes 16 seconds West 154.94 feet; thence South 01 degrees 19 minutes 17 seconds West 112.78 feet; thence South 01 degrees 01 minutes 40 seconds East 126.36 feet; thence South 03 degrees 12 minutes 46 seconds East 55.73 feet to a tangent curve to the right having a radius of 50.00 feet, the radius point of which bears South 86 degrees 47 minutes 14 seconds West; thence Southerly and Westerly along said curve 80.21 feet to a point which bears South 01 degrees 18 minutes 14 seconds East from said radius point; thence South 88 degrees 41 minutes 46 seconds West 969.83 feet to the POINT OF BEGINNING, containing 28.185 acres, more or less.

Parcel 2: A part of the Northwest Quarter and the Southwest Quarter of Section 33, Township 15 North, Range 2 East, Decatur Township, Marion County, Indiana, more particularly described as follows: Commencing at a brass disk (IAA monument 33-M) found at the Southeast corner of the Northwest Quarter of said Section 33; thence South 88 degrees 54 minutes 54 seconds West (all bearings are based on the Indiana State Plane Coordinate system, East Zone (NAD83)) along the South line of said Northwest Quarter 518.07 feet; thence North 01 degrees 05 minutes 06 seconds West perpendicular to the last described line 395.00 feet to the Western right of way of the I-70 On-ramp from the Midfield Terminal per Indiana Department of Transportation plans for said Project No. ST-70-3(Q) (the following eleven courses are along said Western right of way) and the POINT OF BEGINNING; (1) thence North 45 degrees 23 minutes 01 seconds West 74.22 feet; (2) thence South 44 degrees 36 minutes 59 seconds West 39.43 feet to a tangent curve to the left having a radius of 1739.00 feet, the radius point of which bears South 45 degrees 23 minutes 01 seconds East; (3) thence Southwesterly along said curve 379.21 feet to a point which bears North 57 degrees 52 minutes 40 seconds West from said radius point; (4) thence South 36 degrees 51 minutes 24 seconds West 99.91 feet; (5) thence South 32 degrees 14 minutes 45 seconds West 59.91 feet; (6) thence South 24 degrees 22 minutes 36 seconds West 32.79 feet; (7) thence South 18 degrees 57 minutes 27 seconds West 413.53 feet; (8) thence South 09 degrees 46 minutes 39 seconds West 265.64 feet to a non-tangent curve to the left having a radius of 1625.00 feet, the radius point of which bears South 83 degrees 48 minutes 31 seconds East; (9) thence Southerly along said curve 507.07 feet to a point which bears South 78 degrees 18 minutes 46 seconds West from said radius point; (10) thence South 13 degrees 04 minutes 23 seconds East 533.44 feet to a non-tangent curve to the right having a radius of 1018.00 feet, the radius point of which bears South 78 degrees 38 minutes 08 seconds West; (11) thence Southerly along said curve 542.08 feet to a point which bears South 70 degrees 51 minutes 16 seconds East from said radius point; thence South 89 degrees 49 minutes 51 seconds West 324.15 feet to the West line of the Southeast Quarter of said Southwest Quarter; thence North 00 degrees 13 minutes 59 seconds East along said West line 36.79 feet; thence North 31 degrees 43 minutes 44 seconds East 23.98 feet; thence North 08 degrees 29 minutes 54 seconds East 82.76 feet; thence North 01 degrees 01 minutes 08 seconds East 683.53 feet; thence North 04 degrees 01 minutes 07 seconds West 83.77 feet; thence North 00 degrees 50 minutes 54 seconds West 119.54 feet; thence North 00 degrees 17 minutes 49 seconds East 472.07 feet; thence North 00 degrees 19 minutes 50 seconds West 305.06 feet; thence North 01 degrees 25 minutes 46 seconds West 152.36 feet; thence North 01 degrees 11 minutes 17 seconds West 70.04 feet; thence North 01 degrees 06 minutes 50 seconds East 49.53 feet; thence North 03 degrees 17 minutes 08 seconds East 43.07 feet; thence North 00 degrees 39 minutes 00 seconds East 81.08 feet; thence North 33 degrees 45 minutes 21 seconds East 18.85 feet; thence North 00 degrees 16 minutes 28 seconds East 485.90 feet to a tangent curve to the right having a radius of 550.00 feet, the radius point of which bears South 89 degrees 43 minutes 32 seconds East; thence Northeasterly along said curve 426.24 feet to a point which bears North 45 degrees 19 minutes 22 seconds West from said radius point; thence North 44 degrees 40 minutes 38 seconds East 235.22 feet to a tangent curve to the right having a radius of 100.00 feet, the radius point of which bears South 45 degrees 19 minutes 22 seconds East; thence Northeasterly and Southeasterly along said curve 138.81 feet to a point which bears North 34 degrees 12 minutes 36 seconds East from said radius point; thence South 55 degrees 47 minutes 24 seconds East 567.98 feet; thence South 34 degrees 12 minutes 36 seconds West 14.44 feet; thence South 55 degrees 44 minutes 38 seconds East 99.42 feet; thence South 43 degrees 46 minutes 58 seconds West 320.14 feet to the POINT OF BEGINNING, containing 28.142 acres, more or less.

Parcel 3: A part of the Southwest Quarter of Section 33, Township 15 North, Range 2 East, Decatur Township, Marion County, Indiana, more particularly described as follows: Commencing at a brass disk (IAA monument 33-O) found at the Northwest corner of the Southwest Quarter of said Section 33; thence North 88 degrees 54 minutes 54 seconds East (all bearings are based on the Indiana State Plane Coordinate system, East Zone (NAD83)) along the North line of said Southwest Quarter 282.06 feet; thence South 00 degrees 04 minutes 49 seconds East 678.14 feet to the POINT OF BEGINNING; thence North 62 degrees 27 minutes 55 seconds East 631.93 feet; thence North 89 degrees 11 minutes 48 seconds East 470.68 feet; thence South 00 degrees 13 minutes 06 seconds East 401.01 feet; thence South 03 degrees 26 minutes 30 seconds West 62.55 feet; thence South 02 degrees 01 minutes 10 seconds East 134.76 feet; thence South 00 degrees 12 minutes 32 seconds East 174.65 feet; thence South 01 degrees 10 minutes 11 seconds West 157.84 feet to the South line of the Northwest Quarter of said Southwest Quarter; thence South 88 degrees 57 minutes 19 seconds West along said South line 1030.18 feet; thence North 00 degrees 04 minutes 49 seconds West 650.62 feet to the POINT OF BEGINNING, containing 20.265 acres, more or less.

Issued in Des Plaines, Illinois, on September 5, 2014.
James G. Keefer,
Manager, Chicago Airports District Office, FAA, Great Lakes Region.

[FR Doc. 2014-22079 Filed 9-15-14; 8:45 am]

BILLING CODE 4910-13-P